DEPARTMENT OF ENERGY

Federal Energy Regulatory Commission

Combined Notice of Filings

Take notice that the Commission has received the following Natural Gas Pipeline Rate and Refund Report filings:

Filings Instituting Proceedings

Docket Numbers: RP17-383-000.

Applicants: Northern Natural Gas Company.

Description: § 4(d) Rate Filing: 20170201 Miscellaneous Filing to be effective 3/4/2017.

Filed Date: 2/1/17.

Accession Number: 20170201-5104.

Comments Due: 5 p.m. ET 2/13/17.

Docket Numbers: RP17-384-000.

Applicants: Natural Gas Pipeline Company of America.

Description: § 4(d) Rate Filing: Negotiated Rate Filing—Nicor to be effective 2/1/2017.

Filed Date: 2/1/17.

Accession Number: 20170201-5128.

Comments Due: 5 p.m. ET 2/13/17.

Docket Numbers: RP17-385-000.

Applicants: Northern Natural Gas Company.

Description: § 4(d) Rate Filing: 20170201 Annual PRA Fuel Rates to be effective 4/1/2017.

Filed Date: 2/1/17.

Accession Number: 20170201-5148.

Comments Due: 5 p.m. ET 2/13/17.

Docket Numbers: RP17-386-000.

Applicants: Enable Gas Transmission, LLC.

Description: § 4(d) Rate Filing: Negotiated Rate Filing—February 2017 Spire 1005896 to be effective 2/1/2017.

Filed Date: 2/1/17.

Accession Number: 20170201-5201.

Comments Due: 5 p.m. ET 2/13/17.

Docket Numbers: RP17-387-000.

Applicants: Dauphin Island Gathering Partners.

Description: § 4(d) Rate Filing: Negotiated Rate Filing 2-1-2017 to be effective 2/1/2017.

Filed Date: 2/1/17.

Accession Number: 20170201-5221.

Comments Due: 5 p.m. ET 2/13/17.

Docket Numbers: RP17-388-000.

Applicants: Northern Border Pipeline Company.

Description: § 4(d) Rate Filing: James Valley Ethanol Neg Rate Agmt Revision to be effective 2/1/2017.

Filed Date: 2/1/17.

Accession Number: 20170201-5235.

Comments Due: 5 p.m. ET 2/13/17.

Docket Numbers: RP17-389-000.

Applicants: Cimarron River Pipeline, LLC.

Description: § 4(d) Rate Filing: Fuel Tracker 2017—Summer Season Rates to be effective 4/1/2017.

Filed Date: 2/1/17.

Accession Number: 20170201-5254.

Comments Due: 5 p.m. ET 2/13/17.

Docket Numbers: RP17-390-000.

Applicants: Questar Overthrust Pipeline, LLC.

Description: § 4(d) Rate Filing: Statement of Negotiated Rates Version 7.0.0, Simplot Phosphates to be effective 3/1/2017.

Filed Date: 2/1/17.

Accession Number: 20170201-5259.

Comments Due: 5 p.m. ET 2/13/17.

Docket Numbers: RP17-391-000.

Applicants: Cimarron River Pipeline, LLC.

Description: § 4(d) Rate Filing: Negotiated Rates 2017-02-01 to be effective 2/1/2017.

Filed Date: 2/1/17.

Accession Number: 20170201-5264.

Comments Due: 5 p.m. ET 2/13/17.

Docket Numbers: RP17-392-000.

Applicants: American Midstream (Midla), LLC.

Description: Compliance filing Eight Revised Volume No 1 Baseline to be effective 3/4/2017.

Filed Date: 2/2/17.

Accession Number: 20170202-5227.

Comments Due: 5 p.m. ET 2/14/17.

Docket Numbers: RP17-393-000.

Applicants: American Midstream (Midla), LLC.

Description: Tariff Cancellation: Cancellation of Complete Tariff to be effective 3/4/2017.

Filed Date: 2/2/17.

Accession Number: 20170202-5229.

Comments Due: 5 p.m. ET 2/14/17.

Docket Numbers: RP16-975-000.

Applicants: Venice Gathering System, L.L.C.

Description: Report Filing: Updated Statements.

Filed Date: 2/3/17.

Accession Number: 20170203-5002.

Comments Due: 5 p.m. ET 2/15/17.

Docket Numbers: RP17-384-001.

Applicants: Natural Gas Pipeline Company of America.

Description: Tariff Amendment: Amendment to Nicor Negotiated Rate to be effective 2/1/2017.

Filed Date: 2/3/17.

Accession Number: 20170203-5234.

Comments Due: 5 p.m. ET 2/15/17.

Docket Numbers: RP17-394-000.

Applicants: Texas Eastern Transmission, LP.

Description: § 4(d) Rate Filing: Negotiated Rates—Colonial Energy contract 911400 to be effective 2/6/2017.

Filed Date: 2/3/17.

Accession Number: 20170203-5230.

Comments Due: 5 p.m. ET 2/15/17.

Docket Numbers: RP16-1097-001.

Applicants: KO Transmission Company.

Description: Motion Filing: Motion to Place Suspended Tariff Records into Effect to be effective 2/1/2017.

Filed Date: 1/31/17.

Accession Number: 20170131-5345.

Comments Due: 5 p.m. ET 2/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2017.
Nathaniel J. Davis, Sr.,
Deputy Secretary.

[FR Doc. 2017-02804 Filed 2-9-17; 8:45 am]

BILLING CODE 6717-01-P